FEDERAL MARITIME COMMISSION

Ocean Transportation Intermediary License; Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 4300F.

Name: American Intercargo Express Inc.

Address: One World Trade Center, Suite 4667, New York, NY 10048.

Date Revoked: September 13, 2001.

Reason: Failed to maintain a valid bond.

License Number: 15644N.

Name: Amerilines, Inc.—New York.

Address: 7 Dey Street, Suite 1501, New York, NY 10007.

Date Revoked: September 28, 2001.

Reason: Failed to maintain a valid bond.

License Number: 11238N.

Name: Arrow Cargo Express, Inc.

Address: 2254-B Landmeier Road, Elk Grove Village, IL 60007.

Date Revoked: September 26, 2001.

Reason: Failed to maintain a valid bond.

License Number: 16341N.

Name: Dit (USA), Inc.

Address: 1805 W. Hovey Ave., Suite B, Normal, IL 61761.

Date Revoked: August 17, 2001.

Reason: Surrendered license voluntarily.

License Number: 2430F.

Name: Emigdio S. Ledesma dba Jack Ledesma International Forwarder.

Address: 729 83rd Avenue North, Suite 204, St. Petersburg, FL 33702.

Date Revoked: September 20, 2001.

Reason: Failed to maintain a valid bond.

License Number: 2338NF.

Name: Kamden International Shipping, Inc.

Address: 179-02 150th Avenue, Jamaica, NY 11434.

Date Revoked: September 23, 2001.

Reason: Failed to maintain a valid bond.

License Number: 4238F.

Name: Land Ocean Management, Inc.

Address: 825 20th, Suite 310, Portland, OR 97232.

Date Revoked: September 8, 2001.

Reason: Failed to maintain a valid bond.

License Number: 3964F.

Name: Logistic Excel Corporation.

Address: 1521 West Magnolia, Suite B, Burbank, CA 91506.

Date Revoked: September 16, 2001.

Reason: Failed to maintain a valid bond.

License Number: 16715F.

Name: Nasser Massry dba Maromax Industries.

Address: 417 Pisgah Church Road, Greensboro, NC 27455.

Date Revoked: September 11, 2001.

Reason: Failed to maintain a valid bond.

License Number: 4374F.

Name: Richard T. Freeman.

Address: 2441 Foxwood Road South, Orange Park, IL 32073.

Date Revoked: September 22, 2001.

Reason: Failed to maintain a valid bond.

License Number: 3415NF.

Name: TCX International, Inc. dba Land Joy.

Address: 3101 N.W. 74th Avenue, Miami, FL 33122.

Date Revoked: September 28, 2001.

Reason: Failed to maintain a valid bond.

License Number: 16633N.

Name: Transworld Lines, Incorporated.

Address: 9950 W. Lawrence Avenue, Schiller Park, IL 60176.

Date Revoked: August 24, 2001.

Reason: Surrendered license voluntarily.

Ronald D. Murphy,
Deputy Director, Bureau of Consumer Complaints and Licensing.

[FR Doc. 01-26803 Filed 10-23-01; 8:45 am]

BILLING CODE 6730-01-P